NATIONAL AERONAUTICS AND SPACE ADMINISTRATION

[Notice (05-164)]

Government-Owned Inventions, Available for Licensing

AGENCY: National Aeronautics and Space Administration.

ACTION: Notice of availability of inventions for licensing.

SUMMARY: The inventions listed below assigned to the National Aeronautics and Space Administration, have been filed in the United States Patent and Trademark office, and are available for licensing.

DATES: December 9, 2005.

FOR FURTHER INFORMATION CONTACT: David Walker, Patent Counsel, Goddard Space Flight Center, Mail Code 140.1, Greenbelt, MD 20771-0001; telephone (301) 286-7351; fax (301) 286-9502.

NASA Case No. GSC-14562-1: Stepping Flexures;

NASA Case No. GSC-14941-1: Method And System For Direct Implementation Of Formal Specifications Derived Mechanically From Informal Requirements;

NASA Case No. GSC-14942-1: Method And System For Formal Analysis, Simulation, And Verification Of Knowledge-Based Systems, Rule-Based Systems, And Expert Systems;

NASA Case No. GSC-14793-1: Radiation Hardened Fast Acquisition/Weak Signal Tracking System And Method;

NASA Case No. GSC-14845-1: Demiseable Momentum Exchange System;

NASA Case No. GSC-14968-1: System And Method For Managing Autonomous Entities Through Apoptosis;

NASA Case No. GSC-14777-1: Large Area Vacuum Ultra-Violet Sensors;

NASA Case No. GSC-14,833-1: Systems And Method Of Analyzing Vibrations And Identifying Failure Signatures In the Vibrations;

NASA Case No. GSC-14955-1: Virtual Feel Capaciflectors;

NASA Case No. GSC-14994-1: A Split-Remerge Method For Eliminating Processing Window Artifacts In Recursive Hierarchical Segmentation.

Dated: December 5, 2005.
Keith T. Sefton,
Deputy General Counsel, Administration and Management.

[FR Doc. E5-7162 Filed 12-8-05; 8:45 am]

BILLING CODE 7510-13-P